DEPARTMENT OF COMMERCE

International Trade Administration

[A-570-044]

1,1,1,2-Tetrafluoroethane (R-134a) From the People's Republic of China: Preliminary Results and Partial Rescission of Antidumping Duty Administrative Review; 2023-2024

AGENCY: Enforcement and Compliance, International Trade Administration, Department of Commerce.

SUMMARY: The U.S. Department of Commerce (Commerce) preliminarily determines that the sole mandatory respondent under review sold 1,1,1,2-Tetrafluoroethane (R-134a) from the People's Republic of China (China) at less than normal value during the period of review (POR), April 1, 2023, through March 31, 2024. Interested parties are invited to comment on these preliminary results.

DATES: Applicable August 8, 2025.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On April 19, 2017, Commerce published in the Federal Register the antidumping duty (AD) order on 1,1,1,2-Tetrafluoroethane (R-134a) from China.¹ On April 1, 2024, Commerce published in the Federal Register a notice of opportunity to request an administrative review of the Order.² On April 30, 2024, American HFC Coalition and its individual members (the petitioners) and Zhejiang Sanmei Chemical Ind. Co. Ltd. (Zhejiang Sanmei) submitted timely requests that Commerce conduct an administrative review.³ On June 12, 2024, pursuant to section 751(a)(1) of the Tariff Act of 1930, as amended (the Act), Commerce initiated an administrative review of Order.⁴ On July 22, 2024, Commerce tolled administrative deadlines in this proceeding by seven days.⁵ On December 9, 2024, Commerce tolled administrative deadlines in this proceeding by an additional 90 days.⁶ On March 7, 2025, and May 20, 2025, we extended the deadline for these preliminary results; ⁷ the deadline is now August 5, 2025.

¹ See 1,1,1,2-Tetrafluoroethane (R-134a) from the People's Republic of China: Antidumping Duty Order, 82 FR 18422 (April 19, 2017) (Order).

² See Antidumping or Countervailing Duty Order, Finding, or Suspended Investigation; Opportunity To Request Administrative Review and Join Annual Inquiry Service List, 89 FR 22390 (April 1, 2024).

³ See Petitioner's Letter, “Request for Administrative Review of Antidumping Duty Order,” dated April 30, 2024; see also Zhejiang Sanmei's Letter, “Request for Administrative Review,” dated April 30, 2024.

⁴ See Initiation of Antidumping and Countervailing Duty Administrative Reviews, 89 FR 49844 (June 12, 2024) (Initiation Notice).

⁵ See Memorandum, “Tolling of Deadlines for Antidumping and Countervailing Duty Proceedings,” dated July 22, 2024.

⁶ See Memorandum, “Tolling of Deadlines for Antidumping and Countervailing Duty Proceedings,” dated December 9, 2024.

⁷ See Memoranda, “Extension of Deadline for Preliminary Results of Antidumping Duty Administrative Review,” dated March 7, 2025; and “Second Extension of Deadline for Preliminary Results of Antidumping Duty Administrative Review,” dated May 20, 2025.

For a complete description of the events that occurred since the Initiation Notice and the analysis behind the preliminary results herein, see the Preliminary Decision Memorandum.⁸ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included in Appendix I to this notice.

⁸ See Memorandum, “Decision Memorandum for the Preliminary Results of Antidumping Duty Administrative Review: R-134a from the People's Republic of China; 2023-2024,” dated concurrently with, and hereby adopted by, this notice (Preliminary Decision Memorandum).

Scope of the Order ⁹

⁹ See Order.

The merchandise covered by the Order is 1,1,1,2-Tetrafluoroethane, R-134a, or its chemical equivalent, regardless of form, type, or purity level. A full description of the scope of the Order is provided in the Preliminary Decision Memorandum.

Partial Rescission of Review

Pursuant to 19 CFR 351.213(d)(1), Commerce will rescind an administrative review, in whole or in part, if a party who requested the review withdraws the request within 90 days of the date of publication of the notice of initiation of the requested review. On September 10, 2024, the petitioners timely withdrew their review request for 28 companies listed in the Initiation Notice. Aside from Zhejiang Sanmei and its affiliates' self-request for review, no other parties requested a review of these companies. Accordingly, pursuant to 19 CFR 351.213(d)(1), Commerce is rescinding the administrative review with respect to the companies listed in Appendix II.¹⁰ Because Zhejiang Sanmei did not withdraw its review request, it remains under review.

¹⁰ See Petitioner's Letter, “Withdrawal of Request for Administrative Review,” dated September 10, 2024.

The China-Wide Entity

Commerce's policy regarding conditional review of the China-wide entity applies to this administrative review.¹¹ Under this policy, the China-wide entity will not be under review unless a party specifically requests, or Commerce self-initiates, a review of the entity. Because no party requested a review of the China-wide entity, the entity is not under review, and the entity's rate, i.e., 167.02 percent, is not subject to change.¹² Moreover, we preliminarily determine that Zhejiang Sanmei is eligible for a separate rate and thus not part of the China-wide entity.

¹¹ See Antidumping Proceedings: Announcement of Change in Department Practice for Respondent Selection in Antidumping Duty Proceedings and Conditional Review of the Nonmarket Economy Entity in NME Antidumping Duty Proceedings, 78 FR 65963 (November 4, 2013).

¹² See Order, 82 FR at 18423.

Methodology

We are conducting this administrative review in accordance with section 751(a)(1)(B) of the Act and 19 CFR 351.213. We calculated export prices for Zhejiang Sanmei in accordance with section 772(a) of the Act. Because China is a non-market economy within the meaning of section 771(18) of the Act, we calculated NV in accordance with section 773(c) of the Act. For a full description of the methodology underlying the preliminary results of this review, see the Preliminary Decision Memorandum.

Preliminary Results

We preliminarily determine that the following estimated weighted-average dumping margin exists for the period April 1, 2023, through March 31, 2024:

¹³ Commerce has previously found Zhejiang Sanmei, Jiangsu Sanmei Chemical Ind. Co., Ltd., and Fujian Qingliu Dongying Chemical Ind. Co. Ltd. to comprise a single entity. See 1,1,1,2-Tetrafluoroethane (R-134a) from the People's Republic of China: Final Results of Antidumping Duty Administrative Review and Final Determination of No Shipments; 2021-2022, 88 FR 60639 (September 5, 2023).

Exporter | Weighted-average dumping margin (percent)
Zhejiang Sanmei Chemical Ind. Co. Ltd./Jiangsu Sanmei Chemical Ind. Co., Ltd./Fujian Qingliu Dongying Chemical Ind. Co. Ltd.¹³ | 141.22

Disclosure

Commerce intends to disclose the calculations performed to interested parties for these preliminary results within five days of any public announcement or, if there is no public announcement, within five days of the date of publication of this notice in the Federal Register, in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.¹⁴ Rebuttal briefs, limited to issues raised in the case briefs, may be filed not later than five days after the date for filing case briefs.¹⁵ Interested parties who submit case or rebuttal briefs in this proceeding must submit: (1) a table of contents listing each issue; and (2) a table of authorities.¹⁶

¹⁴ See 19 CFR 351.309.

¹⁵ See 19 CFR 351.309(d); see also Administrative Protective Order, Service, and Other Procedures in Antidumping and Countervailing Duty Proceedings, 88 FR 67069, 67077 (September 29, 2023) (APO and Service Final Rule).

¹⁶ See 19 CFR 351.309(c)(2) and (d)(2).

As provided under 19 CFR 351.309(c)(2) and (d)(2), in prior proceedings we have encouraged interested parties to provide an executive summary of their brief that should be limited to five pages total, including footnotes. In this administrative review, we instead request that interested parties provide at the beginning of their briefs a public, executive summary for each issue raised in their briefs.¹⁷ Further, we request that interested parties limit their public executive summary of each issue to no more than 450 words, not including citations. We intend to use the public executive summaries as the basis of the comment summaries included in the issues and decision memorandum that will accompany the final results of this administrative review. We request that interested parties include footnotes for relevant citations in the public executive summary of each issue. Note that Commerce has amended certain of its requirements pertaining to the service of documents in 19 CFR 351.303(f).¹⁸

¹⁷ We use the term “issue” here to describe an argument that Commerce would normally address in a comment of the Issues and Decision Memorandum.

¹⁸ See APO and Service Final Rule.

Pursuant to 19 CFR 351.310(c), interested parties who wish to request a hearing, limited to issues raised in the case and rebuttal briefs, must submit a written request to the Assistant Secretary for Enforcement and Compliance, U.S. Department of Commerce, filed electronically via Commerce's electric records system, ACCESS. An electronically-filed request must be received successfully in its entirety by 5:00 p.m. Eastern Time within 30 days after the date of publication of this notice.¹⁹ Requests should contain (1) the party's name, address, and telephone number; (2) the number of participants and whether any participant is a foreign national; and (3) a list of the issues to be discussed. If a request for a hearing is made, Commerce intends to hold the hearing at a time and date to be determined.²⁰ Parties should confirm by telephone the date and time of the hearing two days before the scheduled date.

¹⁹ See 19 CFR 351.310(c).

²⁰ See 19 CFR 351.310(d).

Unless otherwise extended, we intend to issue the final results of this administrative review, which will include the results of our analysis of the issues raised in the case and rebuttal briefs, within 120 days of publication of these preliminary results in the Federal Register, pursuant to section 751(a)(3)(A) of the Act and 19 CFR 351.213(h).

Assessment Rates

Upon issuance of the final results, Commerce will determine, and CBP shall assess, antidumping duties on all appropriate entries covered by this review, in accordance with 19 CFR 351.212(b)(1). Commerce intends to issue assessment instructions to CBP 35 days after the publication of the final results of this review. If a timely summons is filed at the U.S. Court of International Trade, the assessment instructions will direct CBP not to liquidate relevant entries until the time for parties to file a request for a statutory injunction has expired (i.e., within 90 days of publication).

We will calculate importer/customer-specific assessment rates equal to the ratio of the total amount of dumping calculated for examined sales to a particular importer/customer to the total entered value of those sales, in accordance with 19 CFR 351.212(b)(1).²¹ Where the respondent reported reliable entered values, Commerce intends to calculate importer/customer-specific ad valorem assessment rates by dividing the total amount of dumping calculated for all reviewed U.S. sales to the importer/customer by the total entered value of the merchandise sold to the importer/customer.²² Where the respondents did not report entered values, Commerce will calculate importer/customer-specific assessment rates by dividing the total amount of dumping calculated for all reviewed U.S. sales to the importer/customer by the total quantity of those sales. Commerce will calculate an estimated ad valorem importer/customer-specific assessment rate to determine whether the per-unit assessment rate is de minimis; however, Commerce will use the per-unit assessment rate where entered values were not reported.²³ Where an importer/customer-specific ad valorem assessment rate is not zero or de minimis, Commerce will instruct CBP to collect the appropriate duties at the time of liquidation. Where either the respondent's ad valorem weighted-average dumping margin is zero or de minimis, or an importer/customer-specific ad valorem assessment rate is zero or de minimis,²⁴ Commerce will instruct CBP to liquidate the appropriate entries without regard to antidumping duties.

²¹ In these preliminary results, Commerce applied the assessment rate calculation method adopted in Antidumping Proceedings: Calculation of the Weighted-Average Dumping Margin and Assessment Rate in Certain Antidumping Proceedings: Final Modification, 77 FR 8101 (February 14, 2012).

²² See 19 CFR 351.212(b)(1).

²³ Id.

²⁴ See 19 CFR 351.106(c)(2).

Pursuant to Commerce's refinement to its practice, for sales that were not reported in the U.S. sales database submitted by a respondent individually examined during this review, Commerce will instruct CBP to liquidate the entry of such merchandise at the dumping margin assigned to the China-wide entity.²⁵

²⁵ For a full discussion of this practice, see Non-Market Economy Antidumping Proceedings: Assessment of Antidumping Duties, 76 FR 65694 (October 24, 2011).

For the companies for which this review is rescinded with these preliminary results, we will instruct CBP to assess antidumping duties on all appropriate entries at a rate equal to the cash deposit of estimated antidumping duties required at the time of entry, or withdrawal from warehouse, for consumption, during the POR, in accordance with 19 CFR 351.212(c)(l)(i). For the companies rescinded from review, Commerce intends to issue assessment instructions to CBP 35 days after the publication of this notice in the Federal Register.

In accordance with section 751(a)(2)(C) of the Act, the final results of this review shall be the basis for the assessment of ADs on entries of merchandise covered by the final results of this review and for future deposits of estimated antidumping duties, where applicable.

Cash Deposit Requirements

The following cash deposit requirements will be effective upon publication of the final results of this review for all shipments of the subject merchandise from China entered, or withdrawn from warehouse, for consumption on or after the publication date, as provided for by section 751(a)(2)(C) of the Act: (1) the cash deposit rate for Zhejiang Sanmei will be that rate established in the final results of this review (except, if the rate is de minimis, then a cash deposit rate of zero will be required); (2) for a previously investigated or reviewed exporter of subject merchandise not listed in the final results of review that has a separate rate, the cash deposit rate will continue to be the exporter's existing cash deposit rate; (3) for all Chinese exporters of subject merchandise that have not been found to be entitled to a separate rate, the cash deposit rate will be the rate for the China-wide entity (i.e., 167.02 percent); and (4) for all exporters of subject merchandise that are not located in China and are not eligible for a separate rate, the cash deposit rate will be the rate applicable to the Chinese exporter(s) that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing the preliminary results of this review in accordance with sections 751(a)(l) and 777(i)(l) of the Act, and 19 CFR 351.213(h)(1), and 19 CFR 351.221(b)(4).

Dated: August 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of the Methodology

V. Currency Conversion

VI. Recommendation

Appendix II

Companies for Which the Administrative Review Is Being Rescinded

1. Bestcool Inc., Ltd.

2. Electrochemical Factory of Zhejiang Juhua Co., Ltd.

3. Hongkong Richmax Ltd.

4. Huantai Dongyue International Trade Co. Ltd.

5. ICOOL Chemical Co., Ltd.

6. Jiangsu Bluestar Green Technology Co., Ltd.

7. Jinhua Binglong Chemical Technology Co., Ltd.

8. Jinhua Yonghe Fluorochemical Co., Ltd.

9. Ningbo FTZ ICOOL Prime International

10. Puremann, Inc.

11. Shandong Dongyue Chemical Co., Ltd.

12. Shandong Huaan New Material Co., Ltd.

13. Sinochem Environmental Protection Chemicals (Taicang) Co., Ltd.

14. T.T. International Co., Ltd.

15. Weitron International Refrigeration Equipment (Kunshan) Co., Ltd.

16. Weichang Refrigeration Equipment (Kunshan) Co., Ltd.

17. Zhejiang Juhua Co., Ltd.

18. Zhejiang Morita New Materials Co., Ltd.

19. Zhejiang Organic Fluor-Chemistry Plant, Zhejiang Juhua Co., Ltd.

20. Zhejiang Quhua Juxin Fluorochemical Industry Co., Ltd.

21. Zhejiang Quzhou Juxin Fluorine Chemical Co., Ltd.

22. Zhejiang Quzhou Lianzhou Refrigerants Co., Ltd.

23. Zhejiang Yonghe Refrigerant Co., Ltd.

24. Zhejiang Zhonglan Refrigeration Technology Co., Ltd.

25. Zibo Feiyuan Chemical Co., Ltd.

[FR Doc. 2025-15130 Filed 8-7-25; 8:45 am]

BILLING CODE 3510-DS-P